DEPARTMENT OF HOMELAND SECURITY

Federal Emergency Management Agency

[Docket ID FEMA-2017-0002; Internal Agency Docket No. FEMA-B-1722]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: May 16, 2017.
Roy E. Wright,
Deputy Associate Administrator for Insurance and Mitigation, Department of Homeland Security, Federal Emergency Management Agency.

State and county | Location and case No. | Chief executive officer of community | Community map repository | Online location of letter of map revision | Effective date of modification | Community No.
Arizona:
Maricopa | City of Goodyear (16-09-3153P) | The Honorable Georgia Lord, Mayor, City of Goodyear, 190 North Litchfield Road, Goodyear, AZ 85338 | Engineering Department, 14455 West Van Buren Street, Suite D-101, Goodyear, AZ 85338 | http://www.msc.fema.gov/lomc. | Aug. 4, 2017 | 040046
Maricopa | City of Goodyear (17-09-0108P) | The Honorable Georgia Lord, Mayor, City of Goodyear, 190 North Litchfield Road, Goodyear, AZ 85338 | Engineering Department, 14455 West Van Buren Street, Suite D-101, Goodyear, AZ 85338 | http://www.msc.fema.gov/lomc. | Aug. 18, 2017 | 040046
Maricopa | Town of Gilbert (17-09-0192P) | The Honorable Jenn Daniels, Mayor, Town of Gilbert, 50 East Civic Center Drive, Gilbert, AZ 85296 | Town Hall, 90 East Civic Center Drive, Gilbert, AZ 85296 | http://www.msc.fema.gov/lomc. | Aug. 4, 2017 | 040044
Maricopa | Unincorporated Areas of Maricopa County (16-09-2930P) | The Honorable Denny Barney, Chairman, Board of Supervisors, Maricopa County, 301 West Jefferson Street, 10th Floor, Phoenix, AZ 85003 | Flood Control District of Maricopa County, 2801 West Durango Street, Phoenix, AZ 85009 | http://www.msc.fema.gov/lomc. | Aug. 11, 2017 | 040037
Maricopa | Unincorporated Areas of Maricopa County (17-09-0108P) | The Honorable Denny Barney, Chairman, Board of Supervisors, Maricopa County, 301 West Jefferson Street, 10th Floor, Phoenix, AZ 85003 | Flood Control District of Maricopa County, 2801 West Durango Street, Phoenix, AZ 85009 | http://www.msc.fema.gov/lomc. | Aug. 18, 2017 | 040046
Maricopa | Unincorporated Areas of Maricopa County (17-09-0192P) | The Honorable Denny Barney, Chairman, Board of Supervisors, Maricopa County, 301 West Jefferson Street, 10th Floor, Phoenix, AZ 85003 | Flood Control District of Maricopa County, 2801 West Durango Street, Phoenix, AZ 85009 | http://www.msc.fema.gov/lomc. | Aug. 4, 2017 | 040037
California:
Los Angeles | Unincorporated Areas of Los Angeles County (16-09-2361P) | The Honorable Mark Ridley-Thomas, Chairman, Board of Supervisors, Los Angeles County, Kenneth Hahn Hall of Administration, 500 West Temple Street, Room 358, Los Angeles, CA 90012 | County of Los Angeles, Department of Public Works, Annex Building, 900 South Fremont Avenue, 3rd Floor, Alhambra, CA 91803 | http://www.msc.fema.gov/lomc. | Aug. 21, 2017 | 065043
Ventura | Unincorporated Areas of Ventura County (16-09-2752P) | The Honorable Linda Parks, Chair, Board of Supervisors, Ventura County, 625 West Hillcrest Drive, L#5650, Thousand Oaks, CA 91360 | Ventura County Hall of Administration, 800 South Victoria Avenue, Ventura, CA 93009 | http://www.msc.fema.gov/lomc. | Aug. 4, 2017 | 060413
Hawaii:
Hawaii | Hawaii County (17-09-0654P) | The Honorable Harry Kim, Mayor, County of Hawaii, 25 Aupuni Street, Hilo, HI 96720 | Department of Public Works, 101 Pauahi Street, Suite 7, Hilo, HI 96720 | http://www.msc.fema.gov/lomc. | Aug. 15, 2017 | 155166
Indiana:
LaPorte | City of Michigan City (16-05-4995P) | The Honorable Ron Meer, Mayor, City of Michigan City, City Hall, 100 East Michigan Boulevard, Michigan City, IN 46360 | Planning and Redevelopment Department, Michigan City, City Hall, 100 East Michigan Boulevard, Michigan City, IN 46360 | http://www.msc.fema.gov/lomc. | Aug. 4, 2017 | 180147
Iowa:
Floyd | City of Charles City (17-07-0802P) | The Honorable Jim E. Erb, Mayor, City of Charles City, 105 Milwaukee Mall, Charles City, IA 50616 | City Hall, 105 Milwaukee Mall, Charles City, IA 50616 | http://www.msc.fema.gov/lomc. | Aug. 14, 2017 | 190128
Michigan:
Macomb | City of Fraser (16-05-5239P) | The Honorable Joe Nichols, Mayor, City of Fraser, 33000 Garfield Road, Fraser, MI 48026 | City Hall, 33000 Garfield Road, Fraser, MI 48026 | http://www.msc.fema.gov/lomc. | Aug. 10, 2017 | 260122
Minnesota:
Roseau | City of Roseau (17-05-1873P) | The Honorable Jeff Pelowski, Mayor, City of Roseau, City Center, 121 Center Street East, Suite 202, Roseau, MN 56751 | City Center, 121 Center Street East, Suite 202, Roseau, MN 56751 | http://www.msc.fema.gov/lomc. | Jul. 31, 2017 | 270414
Roseau | Unincorporated Areas of Roseau County (17-05-1873P) | The Honorable Mark Foldesi, Chairman, Roseau County Board of Commissioners, 606 5th Avenue Southwest, Room #131, Roseau, MN 56751 | Roseau County Courthouse, 606 5th Avenue Southwest, Room #130, Roseau, MN 56751 | http://www.msc.fema.gov/lomc. | Jul. 31, 2017 | 270633
Nevada:
Clark | City of Henderson (16-09-2952P) | The Honorable Andy A. Hafen, Mayor, City of Henderson, City Hall, 240 South Water Street, Henderson, NV 89015 | Public Works Department, 240 South Water Street, Henderson, NV 89015 | http://www.msc.fema.gov/lomc. | Aug. 10, 2017 | 320005
Clark | Unincorporated Areas of Clark County (16-09-2952P) | The Honorable Steve Sisolak, Chairman, Board of Supervisors, Clark County, 500 South Grand Central Parkway, 6th Floor, Las Vegas, NV 89106 | Office of the Director of Public Works, 500 South Grand Central Parkway, Las Vegas, NV 89155 | http://www.msc.fema.gov/lomc. | Aug. 10, 2017 | 320003
New York:
Rockland | Town of Clarkstown (16-02-1162P) | Mr. George Hoehmann, Supervisor, Town of Clarkstown, 10 Maple Avenue, New City, NY 10956 | Town Hall, 10 Maple Avenue, New City, NY 10956 | http://www.msc.fema.gov/lomc. | Sep. 15, 2017 | 360679
Rockland | Village of Spring Valley (16-02-1162P) | The Honorable Demeza Delhomme, Mayor, Village of Spring Valley, 200 North Main Street, Spring Valley, NY 10977 | Building Department, 200 North Main Street, Spring Valley, NY 10977 | http://www.msc.fema.gov/lomc. | Sep. 15, 2017 | 365344
Ohio:
Cuyahoga | City of Strongsville (16-05-5799P) | The Honorable Thomas P. Perciak, Mayor, City of Strongsville, 16099 Foltz Parkway, Strongsville, OH 44149 | City Hall, 16099 Foltz Parkway, Strongsville, OH 44149 | http://www.msc.fema.gov/lomc. | Aug. 2, 2017 | 390132
Lorain | Unincorporated Areas of Lorain County (16-05-5799P) | The Honorable Matt Lundy, President, Lorain County Board of Commissioners, 226 Middle Avenue, Elyria, OH 44035 | Lorain County Administration Building, 226 Middle Avenue, Elyria, OH 44035 | http://www.msc.fema.gov/lomc. | Aug. 2, 2017 | 390346

[FR Doc. 2017-11220 Filed 5-30-17; 8:45 am]

BILLING CODE 9110-12-P